DEPARTMENT OF JUSTICE

Drug Enforcement Administration

Manufacturer of Controlled Substances; Notice of Application

Pursuant to § 1301.33(a), Title 21 of the Code of Federal Regulations (CFR), this is notice that on July 8, 2010, Agilent Technologies, 25200 Commercentre Drive, Lake Forest, California 92630-8810, made application by letter to the Drug Enforcement Administration (DEA) to be registered as a bulk manufacturer of the basic classes of controlled substances listed in schedule II:

Drug | Schedule
Phencyclidine (7471) | II
1-piperidinocyclohex- anecarbonitrile (8603) | II
Benzoylecgonine (9180) | II

The company plans to manufacture small quantities of the listed controlled substances for use in diagnostic products.

Agilent Technologies submitted this application because, effective May 14, 2010, Varian, Inc., located at 25200 Commercentre Drive, Lake Forest, California 92630-8810, became a wholly-owned subsidiary of Agilent Technologies. Varian, Inc.'s legal existence as a corporation and as a DEA registrant as a bulk manufacturer will eventually cease and Agilent Technologies will take over all of Varian Inc.'s activities with regard to controlled substances, requiring possession of a DEA registration as a bulk manufacturer issued to Agilent Technologies. Presently, Agilent Technologies' activities with regard to controlled substances will be exactly the same as performed by Varian, Inc.

Any other such applicant, and any person who is presently registered with DEA to manufacture such substances, may file comments or objections to the issuance of the proposed registration pursuant to 21 CFR § 1301.33(a).

Any such written comments or objections should be addressed, in quintuplicate, to the Drug Enforcement Administration, Office of Diversion Control, Federal Register Representative (ODL), 8701 Morrissette Drive, Springfield, Virginia 22152; and must be filed no later than February 1, 2011.

Dated: November 18, 2010.
Joseph T. Rannazzisi,
Deputy Assistant Administrator, Office of Diversion Control, Drug Enforcement Administration.

[FR Doc. 2010-30358 Filed 12-2-10; 8:45 am]

BILLING CODE 4410-09-P